DEPARTMENT OF ENERGY

Federal Energy Regulatory Commission

[Docket No. CP06-449-000]

Kinder Morgan Louisiana Pipeline LLC; Notice of Availability of the Final Environmental Impact Statement for the Proposed Kinder Morgan Louisiana Pipeline Project

April 20, 2007.

The staff of the Federal Energy Regulatory Commission (FERC or Commission) has prepared a final Environmental Impact Statement (EIS) on the natural gas pipeline facilities proposed by Kinder Morgan Louisiana Pipeline LLC (KMLP) in the above-referenced docket.

The final EIS was prepared to satisfy the requirements of the National Environmental Policy Act. The staff concludes that approval of the proposed Project with the appropriate mitigating measures as recommended, would have limited adverse environmental impact. The final EIS also evaluates alternatives to the proposal, including system alternatives, major route alternatives, and route variations.

The final EIS addresses the potential environmental effects of the construction and operation of the following facilities:

• Leg 1—132.2 miles of 42-inch-diameter pipeline beginning within the Sabine Pass Liquefied Natural Gas (LNG) Terminal in Cameron Parish and extending northward and easterly through Calcasieu, Jefferson Davis, and Acadia Parishes until it connects with an existing Columbia Gulf Transmission interstate pipeline in Evangeline Parish, Louisiana.

• Leg 2—1.2 miles of 36-inch-diameter pipeline beginning within the Sabine Pass LNG Terminal and extending to a point of interconnection with the existing Natural Gas Pipeline Company of America pipeline just south of State Highway 82 in Cameron Parish, Louisiana.

• The Florida Gas Transmission (FGT) Lateral—2.3 miles of 24-inch-diameter pipeline extending eastwardly from Leg 1 at approximately milepost 110.60 until it connects with the existing FGT Company's Compressor Station No. 7 near the town of Williams in Acadia Parish, Louisiana.

• Associated mainline block valves, metering, tie-in, and pigging facilities.

The purpose of the proposed facilities is to deliver at least 3,395,000 decatherms (Dth) per day of regasified natural gas from the Sabine Pass LNG Terminal into the national pipeline and underground storage grid.

The final EIS has been placed in the public files of the FERC and is available for distribution and public inspection at: Federal Energy Regulatory Commission, Public Reference Room, 888 First Street, NE., Room 2A, Washington, DC 20426, (202) 502-8371.

Copies the final EIS have been mailed to Federal, State, and local agencies, public interest groups, individuals who have requested the final EIS, newspapers, and parties to this proceeding.

Additional information about the Project is available from the Commission's Office of External Affairs, at 1-866-208-FERC (3372) or on the FERC Internet Web site (http://www.ferc.gov). Using the “Documents and Filings” tab, click on the “eLibrary link,” and select “General Search.” Enter the project docket number excluding the last three digits (i.e., CP06-449) in the “Docket Number” field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. To register for this service, go to http://www.ferc.gov/docs-filing/esubscription.asp.

Kimberly D. Bose,
Secretary.

[FR Doc. E7-7982 Filed 4-25-07; 8:45 am]

BILLING CODE 6717-01-P